FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR Part 515).

Persons knowing of any reason why the following applicants should not receive a license are requested to contact the Office of Transportation Intermediaries, Federal Maritime Commission,Washington, DC 20573.

Non-Vessel—Operating Common Carrier Ocean Transportation Intermediary Applicants:

Forest Fiberslogistics 7900 Tascherean Blvd. West, Suite 203, Building C, Brossard, Quebec, Canada J4X-1C2, Dominic Colubriale, Sole Proprietor.

Fame Cargo International, Inc., 5879-B New Peachtree Road, Doraville, GA 30340, Officers:Ernesto G. Agustin, Treasurer, (Qualifying Individual), Ederlinda E. Agustin, President.

T4 Logistics, LLC, 3401 K Street NW, Suite 201, Washington, DC 20007, Officer: Tim H. Rose, Manager, (Qualifying Individual).

JKC International Inc., 1972 W. Holt Avenue, Pomona, CA 91768, Officers: Allen Man-Yiu Wei, Vice President, (Qualifying Individual), Yong Chen, President.

NMC Logistics International, Inc., 17870 Castleton Street, Suite 246, City of Industry, CA 91748, Officers: Kun Kai Chang, Vice President, (Qualifying Individual), Bryan Fang, President.

Advance Continental Logistics, Inc., 230-19 International Airport Center Blvd., Suite 238, Bldg. A, Jamaica, NY 11413, Officer: Yiu Cheung Wong, President, (Qualifying Individual).

Non-Vessel—Operating Common Carrier and Ocean Freight Forwarder Transportation Intermediary Applicants:

Interport Global Logistics Pvt. Ltd., 5 & 6 Shrikant Chambers, Sion Trombay Rd., Chembur, Mumbai, Maharashtra State, 400071, India, Officers: Sam Bendre, CEO/Director, (Qualifying Individual), Vaidyanathan B., Director.

Cargo Embassy S.p.a., Via Lavoria, 56/L/M/N, Cenaia-Crespina 56040 Italy, Officer: Umberto Nizzola, Import/Export Manager, (Qualifying Individual).

Expedited Logistics and Freight Services, Ltd., 3340-D Greens Road, Suite 300, Houston, TX 77032, Officers: Dian A. Mazzei, International Director, (Qualifying Individual), Frederick J. Lalumandier, Partner.

Sigma Logistics, Inc., 1100 S. El Molino Avenue, Pasadena, CA 91106, Officer: Yi Ren, CEO/CFO, (Qualifying Individual).

Acorn International Forwarding, Co., 2200 Pacific Coast Highway 219, Hermosa Beach, CA 90254, Officers: Houman Razi, President, (Qualifying Individual).

Ocean Freight Forwarder—Ocean Transportation Intermediary Applicants:

Yowell International Airlines, Inc., dba Yowell International, One Air Cargo Place, Suite #3, Melbourne, FL 32901, Officers: William H. Cantillon, Vice President, (Qualifying Individual), Neil T. Yowell, Jr., President.

NFI Global, LLC, 1515 Burnt Mill Road, Cherry Hill, NJ 08003, Officers: Robert John Skulsky, Dir. of Intl. Logistics, (Qualifying Individual), Sidney Brown, President.

Jaime Maduro, U.S. Customs Broker, Foreign Trade Zone, State Rd. #165, Km. #2.4, Bldg #1, Door #10, Guaynabo, PR 00956, Jaime Maduro Santana, Sole Proprietor

Chukwuocha Motors, 8219 Viny Ridge Drive, Houston, TX 77072, Victor Chinedum Chukwuocha, Sole Proprietor.

Seven Seas Consultants, Inc., 4722 Autumn Alcove Court, Kingwood, TX 77345, Officers: Charles J. Buscemi, President, (Qualifying Individual), Tommie W. Buscemi, Secretary/Treasurer.

Dated: June 16, 2005.
Bryant L. VanBrakle,
Secretary.

[FR Doc. 05-12245 Filed 6-21-05; 8:45 am]

BILLING CODE 6730-01-P